DEPARTMENT OF AGRICULTURE

Animal and Plant Health Inspection Service

[Docket No. APHIS-2018-0101]

Notice of Availability of an Environmental Assessment; Importation of Plants in Approved Growing Media Into the United States

AGENCY: Animal and Plant Health Inspection Service, USDA.

ACTION: Notice of availability and request for comments.

SUMMARY: We are advising the public that the Animal and Plant Health Inspection Service is making available a draft programmatic environmental assessment for the importation of plants in approved growing media. The programmatic environmental assessment considers the potential environmental effects of a standardized set of pest risk mitigations for routine market requests to import plants in approved growing media. The programmatic environmental assessment would eliminate the need to prepare a unique environmental assessment for each routine market request, thereby making the process for approving imports of plants in approved growing media simpler and more efficient. We are making the programmatic environmental assessment available to the public for review and comment.

DATES: We will consider all comments that we receive on or before May 10, 2019.

ADDRESSES: You may submit comments by either of the following methods:

• Federal eRulemaking Portal: Go to http://www.regulations.gov/#!docketDetail;D=APHIS-2018-0101.

• Postal Mail/Commercial Delivery: Send your comment to Docket No. APHIS-2018-0101, Regulatory Analysis and Development, PPD, APHIS, Station 3A-03.8, 4700 River Road Unit 118, Riverdale, MD 20737-1238.

Supporting documents and any comments we receive on this docket may be viewed at http://www.regulations.gov/#!docketDetail;D=APHIS-2018-0101 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Lydia E. Colón, Senior Regulatory Policy Specialist, Plant Health Programs, Plant Protection and Quarantine, Animal and Plant Health Inspection Service, 4700 River Road Unit 133, Riverdale, MD 20737-1237; Lydia.E.Colon@aphis.usda.gov; (301) 851-2302.

SUPPLEMENTARY INFORMATION: The requirements for importing plants in growing media (PIGM) consist of overlapping phytosanitary risk mitigation measures that together comprise a “systems approach.” The systems approach is designed to protect imported PIGM against pests and diseases during all stages of international trade from the greenhouse to final product delivery. The goal of the systems approach is to minimize the likelihood that any quarantine pest species enter the United States on the commodity proposed for import.

As part of the process for considering PIGM import requests, the Animal and Plant Health Inspection Service (APHIS) currently prepares an environmental assessment (EA) unique to each country's request to import a specific plant genus in growing media into the United States. We also prepare a pest risk assessment (PRA) and risk mitigation document (RMD) that identify pest mitigation measures that help prevent the entry of pests on the commodity.

The pest mitigation measures we propose for most PIGM import requests are very similar from one request to the next, and for this reason we determined that a single programmatic EA could reduce the need for repetitive documentation of comparable risks for the majority of PIGM import requests we receive. To the extent that the PRA and the RMD prepared for a routine import request do not identify new areas for consideration, a Finding of No Significant Impact could be issued without additional environmental documentation.

We are therefore announcing the availability of a draft programmatic EA that considers the potential environmental effects of a standardized set of pest risk mitigations for routine market requests to import plants in approved growing media. Under APHIS' preferred alternative in the draft EA, requests for the importation of PIGM would be analyzed in a pest risk analysis and compared to the current systems approach in the USDA Plants for Planting Manual.¹ This process would streamline approvals for the importation of PIGM by relying on the known combination of pest mitigation measures to provide overlapping or sequential safeguards to manage a wide range of pests. While the systems approach and pest surveillance practices would apply to all PIGM importations, detection of quarantine pests on PIGM would preclude further importation of that plant from that country until revised phytosanitary practices are shown to be effective.

¹ https://www.aphis.usda.gov/import_export/plants/manuals/ports/downloads/plants_for_planting.pdf.

By considering the current systems approach as the default risk mitigation structure for approving imports of PIGM, APHIS would ensure continued levels of safeguarding while facilitating international trade, allowing healthier plant imports, reducing the growing time for plants to reach markets, reducing unnecessary or repetitive environmental and other documentation, and increasing the speed of port of entry inspections.

APHIS' review and analysis of the proposed action are documented in detail in a draft programmatic EA entitled “Importation of Plants in Approved Growing Media (PIGM) into the United States” (November 2018). We are making the EA available to the public for review and comment. We will consider all comments that we receive on or before the date listed under the heading DATES at the beginning of this notice.

The EA may be viewed on the Regulations.gov website or in our reading room (see ADDRESSES above for a link to Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 5th day of April 2019.
Kevin Shea,
Administrator, Animal and Plant Health Inspection Service.

[FR Doc. 2019-07071 Filed 4-9-19; 8:45 am]

BILLING CODE 3410-34-P